DEPARTMENT OF ENERGY

Federal Energy Regulatory Commission

Combined Notice of Filings

Take notice that the Commission has received the following Natural Gas Pipeline Rate and Refund Report filings:

Filings Instituting Proceedings

Docket Numbers: PR14-48-000.

Applicants: Kinder Morgan Keystone Gas Storage LLC.

Description: Tariff filing per 284.123(e) + (g): Name Change Filing to be effective 8/1/2014 TOFC: 1280.

Filed Date: 8/7/14.

Accession Number: 20140807-5130.

Comments Due: 5 p.m. ET 8/28/14.

284.123(g) Protests Due: 5 p.m. ET 10/6/14.

Docket Numbers: RP14-1173-000.

Applicants: Eastern Shore Natural Gas Company.

Description: Off Peak Firm Transportation to be effective 8/7/2014.

Filed Date: 8/7/14.

Accession Number: 20140807-5063.

Comments Due: 5 p.m. ET 8/19/14.

Docket Numbers: RP14-1174-000.

Applicants: Transcontinental Gas Pipe Line Company.

Description: Report of Refund Transco's GSS LSS Customer Share of DTI Penalty Revenue 2014.

Filed Date: 8/7/14.

Accession Number: 20140807-5094.

Comments Due: 5 p.m. ET 8/19/14.

Docket Numbers: RP14-1175-000.

Applicants: Dauphin Island Gathering Partners.

Description: Negotiated Rate Filing 8-7-14 to be effective 9/1/2014.

Filed Date: 8/7/14.

Accession Number: 20140807-5148.

Comments Due: 5 p.m. ET 8/19/14.

Any person desiring to intervene or protest in any of the above proceedings must file in accordance with Rules 211 and 214 of the Commission's Regulations (18 CFR 385.211 and 385.214) on or before 5:00 p.m. Eastern time on the comment date(s). Protests may be considered, but intervention is necessary to become a party to the proceeding.

Filings in Existing Proceedings

Docket Numbers: RP14-1049-001.

Applicants: American Midstream (Midla), LLC.

Description: Midla Compliance Filing in RP14-1049 to be effective 7/17/2014.

Filed Date: 8/7/14.

Accession Number: 20140807-5129.

Comments Due: 5 p.m. ET 8/19/14.

Any person desiring to protest in any of the above proceedings must file in accordance with Rule 211 of the Commission's Regulations (18 CFR § 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 11, 2014.
Nathaniel J. Davis, Sr.,
Deputy Secretary.

[FR Doc. 2014-19658 Filed 8-19-14; 8:45 am]

BILLING CODE 6717-01-P